DEPARTMENT OF THE INTERIOR

Bureau of Land Management

[UT-912-00-0777-XQ]

Utah Statewide Resource Advisory Council Meeting

AGENCY: Bureau of Land Management, Interior.

ACTION: Notice of one-day meeting of the Utah Resource Advisory Council.

SUMMARY: The Bureau of Land Management's Utah Statewide Resource Advisory Council meeting will be held on February 15, 2000, in Provo, Utah. The purpose of this meeting is to begin developing guidelines for recreation management of BLM lands in Utah.

The meeting will be held at the Hampton Inn, (Sundance Room), 1511 South 40 East, Provo, Utah. It is scheduled to begin at 8 a.m. and conclude at 4:00 p.m. A public comment period, where members of the public may address the Council, is scheduled from 8:00-8:30 a.m. on February 15. All meetings of the BLM's Resource Advisory Council are open to the public.

FOR FURTHER INFORMATION CONTACT: Sherry Foot, Special Programs Coordinator, Utah State Office, Bureau of Land Management, 324 South State Street, Salt Lake City, 84111; phone (801) 539-4195.

Dated: January 21, 2000.
Sally Wisely,
Utah BLM State Director.

[FR Doc. 00-2079 Filed 1-31-00; 8:45 am]

BILLING CODE 4310-DQ-M